DEPARTMENT OF COMMERCE

National Institute of Standards and Technology

Visiting Committee on Advanced Technology

AGENCY: National Institute of Standards and Technology, Department of Commerce.

ACTION: Notice of open meeting.

SUMMARY: The National Institute of Standards and Technology (NIST) Visiting Committee on Advanced Technology (VCAT or Committee) will meet on Wednesday, February 11, 2026, from 10:00 a.m. to 4:00 p.m. Eastern Time, and Thursday, February 12, 2026, from 10:00 a.m. to 4:00 p.m. Eastern Time.

DATES: The VCAT will meet on Wednesday, February 11, 2026, from 10:00 a.m. to 4:00 p.m. Eastern Time, and Thursday, February 12, 2026, from 10:00 a.m. to 4:00 p.m. Eastern Time.

ADDRESSES: The meeting will be a virtual meeting via a virtual meeting platform. Please note admittance instructions under the SUPPLEMENTARY INFORMATION section of this notice.

FOR FURTHER INFORMATION CONTACT: Stephanie Shaw, VCAT, NIST, 100 Bureau Drive, Mail Stop 1060, Gaithersburg, Maryland 20899-1060, telephone number 240-446-6000. Ms. Shaw's email address is stephanie.shaw@nist.gov.

SUPPLEMENTARY INFORMATION:

Authority: 15 U.S.C. 278 and the Federal Advisory Committee Act, 5 U.S.C. 1001 et seq.

Pursuant to the Federal Advisory Committee Act, 5 U.S.C. 1001 et seq., notice is hereby given that the VCAT will meet on the dates and at the times given in the DATES section. The meeting will be open to the public. The VCAT is composed of not fewer than nine members appointed by the NIST Director and selected to provide representation of a cross-section of the traditional and emerging United States industries. The primary purpose of this meeting is for the VCAT to review and make recommendations regarding general policy for NIST, its organization, its budget, and its programs within the framework of applicable national policies as set forth by the President and the Congress. The agenda will include an update on major programs at NIST, strategic priorities, safety, cybersecurity, communication, and budget. The Committee will also work on its initial observations, findings, and recommendations for the 2025 VCAT Annual Report. The agenda is subject to change if needed to accommodate Committee business. The final agenda will be posted on the NIST website at https://www.nist.gov/director/vcat/agenda-minutes.

Individuals and representatives of organizations who would like to offer comments and suggestions related to the Committee's business are invited to request a place on the agenda by no later than 5:00 p.m. Eastern Time, Tuesday, February 3, 2026, by contacting Stephanie Shaw at stephanie.shaw@nist.gov. Approximately one-half hour will be reserved for public comments, and speaking times will be assigned on a first-come, first-served basis. The amount of time per speaker will be determined by the number of requests received but is likely to be about 3 minutes each. The exact time and date for public comments will be included in the final agenda that will be posted on the NIST website at https://www.nist.gov/director/vcat/agenda-minutes. Questions from the public will not be considered during this period. Speakers who wish to expand upon their oral statements, those who had wished to speak but could not be accommodated on the agenda, and those who were unable to attend in person are invited to submit written statements to Stephanie Shaw at stephanie.shaw@nist.gov.

All participants, including NIST staff, will be attending via a virtual meeting platform and must contact Ms. Shaw at stephanie.shaw@nist.gov by 5:00 p.m. eastern time, Wednesday January 28, 2026, for detailed instructions on how to join the meeting via a virtual meeting platform.

Alicia Chambers,
NIST Executive Secretariat.

[FR Doc. 2026-00355 Filed 1-9-26; 8:45 am]

BILLING CODE 3510-13-P